GENERAL SERVICES ADMINISTRATION

5 CFR Chapter VII

41 CFR Chapters 101, 102, and 105, and Subtitle F

48 CFR Chapters 5 and 61

[E.O. 13563-OGP-2; Docket 2011-0010; Sequence 2]

Reducing Regulatory Burden; Retrospective Review Under Executive Order 13563 (E.O. 13563)

AGENCY: Office of Governmentwide Policy (OGP), General Services Administration (GSA).

ACTION: Request for information.

SUMMARY: In March 2011, the GSA requested public input on how it can best implement the goals of Executive Order (E.O.) 13563, “Improving Regulation and Regulatory Review.” E.O. 13563 was signed by President Obama on January 18, 2011, and calls for an improvement in the creation and review of regulations and better opportunities for the public to be part of this process. Through comments received as well as internal input, GSA has created a retrospective review plan that is now available for comment. The plan is located at http://www.gsa.gov/open.

DATES: Comment Date: Interested parties should submit written comments to the Regulatory Secretariat on or before July 5, 2011.

ADDRESSES: Submit comments identified by E.O. 13563-OGP-2 by one of the following methods:

• Regulations.gov: http://www.regulations.gov. Submit comments via the Federal eRulemaking portal by inputting “E.O. 13563-OGP-2” under the heading “Enter Keyword or ID” and selecting “Search.” Select the link “Submit a Comment” that corresponds with “E.O. 13563-OGP-2.” Follow the instructions provided at the “Submit a Comment” screen. Please include your name, company name (if any), and “E.O. 13563-OGP-2” on your attached document.

• Fax: 202-501-4067.

• Mail: General Services Administration, Regulatory Secretariat (MVCB), ATTN: Hada Flowers, 1275 First Street, NE., 7th Floor, Washington, DC 20417.

Instructions: Please submit comments only and cite E.O. 13563-OGP-2, in all correspondence related to this case. All comments received will be posted without change to http://www.regulations.gov, including any personal and/or business confidential information provided.

FOR FURTHER INFORMATION CONTACT: The General Services Administration, Regulatory Secretariat (MVCB), 1275 First Street, NE., Washington, DC 20417, (202) 501-4755; e-mail at hada.flowers@gsa.gov. Please cite E.O. 13563-OGP-2.

SUPPLEMENTARY INFORMATION: On March 22, 2011 GSA published a request for comments in the Federal Register (76 FR 15859) regarding the creation of a retrospective review plan that the agency would follow in order to implement E.O. 13563. E.O. 13563, “Improving Regulation and Regulatory Review” was signed by President Obama on January 18, 2011, and calls for an improvement in the creation and review of regulations and better opportunities for the public to be part of this process.

Through comments received as well as internal input, GSA has created a retrospective review plan that is now available for comment. The proposed plan is located at http://www.gsa.gov/open.

Dated: May 27, 2011.
Janet Dobbs,
Director, Office of Travel, Transportation and Asset Management.

[FR Doc. 2011-13739 Filed 6-2-11; 8:45 am]

BILLING CODE 6820-14-P